DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Region BSAI Crab Permits.

OMB Approval Number: 0648-0514.

Form Number(s): None.

Type of Request: Regular submission.

Burden Hours: 4,419.

Number of Respondents: 1,800.

Average Hours Per Response: The individual fishing quota or processor quota permit application and applications to become an Eligible Crab Community Organization: 2 hours, 30 minutes; registered crab receiver permit applications and fee submission forms, 30 minutes; hired master applications and federal crab vessel permit applications, 21 minutes; application for eligibility to receive crab shares by transfer and applications to transfer shares, 2 hours; Right of First Refusal contracts, 40 hours; Right of First Refusal waivers, 30 minutes; appeals of denied permits, 4 hours.

Needs and Uses: The National Marine Fisheries Service (NMFS) manages the crab fisheries in the waters off the coast of Alaska under the Fishery Management Plan for Bering Sea and Aleutian Islands (BSAI) Crab. The Crab Rationalization Program (Program) allocates Bering Sea and Aleutian Islands crab resources among harvesters, processors, and coastal communities. This collection-of-information addresses the permits, transfers, and cost recovery procedures for the Program.

Affected Public: Not-for-profit institutions; business or other for-profit organizations; State, Local or Tribal Government.

Frequency: Annually.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: February 12, 2008.
Gwellnar Banks,
Management Analyst, Office of the Chief Information Officer.

[FR Doc. E8-2926 Filed 2-14-08; 8:45 am]

BILLING CODE 3510-22-P